DEPARTMENT OF HEALTH AND HUMAN SERVICES

Centers for Disease Control and Prevention

Disease, Disability, and Injury Prevention and Control Special Emphasis Panel (SEP)—Funding Opportunity Announcement (FOA), RFA OH-21-003, Extension of the World Trade Center Health Registry (U50); Amended Notice of Meeting

Notice is hereby given of a change in the meeting of the Disease, Disability, and Injury Prevention and Control Special Emphasis Panel (SEP)—Funding Opportunity Announcement (FOA), RFA OH-21-003, Extension of the World Trade Center Health Registry (U50), April 13, 2021; 9:00 a.m.-6:00 p.m., EDT in the original FRN.

The virtual meeting was published in the Federal Register on Monday, January 11, 2021, Volume 86, Number 6, page 1976.

The meeting on April 13, 2021 is being amended to change the time and should read as follows:

Time: 1:00 p.m.-3:00 p.m., EDT.

The meeting is closed to the public.

FOR FURTHER INFORMATION CONTACT: Marilyn Ridenour B.S.N., M.B.A., M.P.H., C.P.H., C.I.C., CAPT, USPHS, Scientific Review Officer, CDC, National Institute for Occupational Safety and Health, 1095 Willowdale Road, Mailstop 1811, Morgantown, West Virginia 26505, Telephone (304) 285-5879.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2021-03231 Filed 2-17-21; 8:45 am]

BILLING CODE 4163-18-P